DEPARTMENT OF LABOR

Office of the Secretary of Labor

Notice of Meeting; President's Council on the 21st Century Workforce and the Committees on Skills Gap, Demographics and Workplace Issues

AGENCY: Office of the Secretary of Labor, DOL.

ACTION: Notice of a meeting of the President's Council on the 21st Century Workforce and meeting of Committees.

SUMMARY: Pursuant to Executive Order 13218, the Secretary of Labor will hold a meeting of the President's Council on the 21st Century Workforce, hereafter (The Council). This is the first meeting of The Council and it's Committees on the Skills Gap, the Changing Demographics and Workplace Issues. The Council and its Committees will provide information and advice to the President, through the Secretary of Labor and the Office of the 21st Century Workforce on issues guided by Executive Order 13218.

DATE, TIME & LOCATION: The Council and its Committees will meet on June 18, 2002 from 8:30 am to approximately 4 pm. The location of the meeting will be the Secretary's Conference Room, U.S. Department of Labor, Francis Perkins Building, 200 Constitution Avenue NW., Washington, DC 20210.

FOR FURTHER INFORMATION CONTACT: Russell Harris, in the Secretary's Office of the 21st Century Workforce, room S-2229, 200 Constitution Ave. NW., Washington, DC 20210. The contact telephone number is (202)-693-6490.

SUPPLEMENTARY INFORMATION: The Council and it's Committees will meet on June 18, 2002 in Washington, DC. The meeting is open to the public. The agenda for this meeting includes a:

☐ Welcome and remarks by the Secretary of Labor

☐ Welcome and remarks by the Director of the Office of the 21st Century Workforce

☐ Briefing by Department of Labor (DOL) Officials

☐ Committee meeting on the Skills Gap, the Changing Demographics and Workplace Issues

☐ Reception

An official record of the meeting will be available for public inspection, in the Office of the 21st Century Workforce. All inquires should be addressed to the Office of the 21st Century Workforce at the address and telephone number provide in the FOR FURTHER INFORMATION CONTACT section.

Individuals needing special accommodations for the Council or Committee meeting should contact Russell Harris at telephone number (202) 693-6490 before June 10, 2002 at the above address.

Interested parties may submit written data, views or comments, preferably 20 copies, to Russell Harris at the address listed above. The Office of the 21st Century Workforce will provide submissions received prior to the meeting to the appropriate Committees and will include each submission in the record of the meeting.

Signed at Washington, DC, On May 15, 2002.
Shelley S. Hymes,
Director, Office of the 21st Century Workforce.

[FR Doc. 02-12694 Filed 5-20-02; 8:45 am]

BILLING CODE 4510-23-P